DEPARTMENT OF HOMELAND SECURITY

Federal Emergency Management Agency

Agency Information Collection Activities: Proposed Collection; Comment Request

AGENCY: Federal Emergency Management Agency, DHS.

ACTION: Notice; 60-day notice and request for comments; Revision of a currently approved collection, OMB Number 1660-0068, FEMA Form, 516-1.

SUMMARY: The Federal Emergency Management Agency, as part of its continuing effort to reduce paperwork and respondent burden, invites the general public and other Federal agencies to take this opportunity to comment on a continuing information collection. In accordance with the Paperwork Reduction Act of 1995, this notice seeks comments concerning the collection of information regarding the existence of smoke detectors and sprinkler systems within hotels and motels.

SUPPLEMENTARY INFORMATION: The information within Public Law 101-391 requires FEMA to establish and maintain a national master list of fire safety in hotels, motels and other places of public accommodation (property). The purpose of this public law is to assure the traveling public of fire safe accommodations and resulted from a number of high-loss fires that occurred in the past.

Collection of Information

Title: Federal Hotel and Motel Fire Safety Declaration Form.

Type of Information Collection: Revision of a currently approved collection.

OMB Number: 1660-0068.

Form Numbers: FEMA Form 516-1.

Abstract: FEMA will be collecting information from hotels and motels regarding the existence of smoke detectors and sprinkler systems in their buildings. FEMA is required to maintain a list of establishments that provide transient lodging with certification in place that they meet the requirements of the Hotel and Motel Fire Safety Act of 1990. This information is used to provide interested parties with a list of compliant hotels and motels, and it certifies that the business can be utilized by Federal Government employees for work-related lodging.

Affected Public: Business or other For-Profit, State, local or Tribal Government.

Estimated Total Annual Burden Hours: 718 hours.

Table A.12—Estimated Annualized Burden Hours and Costs
Type of respondent | Form name/form number | Number of respondents | Number of responses per respondent | Avg. burden per response (in hours) | Total annual burden (in hours) | Avg. hourly wage rate | Total annual respondent cost
Business or other For-Profit | Federal Hotel and Motel Fire Safety Declaration Form/FEMA Form 516-1 | 2,000 | 1 | 15 Minutes (.25 Hour) | 500 | $23.47 | $11,735.00
State, local or Tribal Government | Review of FEMA Form 516-1 | 20 | 33 | 20 Minutes (.33 Hour) | 218 | 26.84 | 5,851.12
Total |  | 2,020 |  | 35 Minutes (.58 Hour) | 718 |  | 17,586.12

Estimated Cost: The estimated annualized cost to respondents based on wage rate categories is $17,586.12. The estimated annual cost to the Federal Government is $57,000.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before January 27, 2009.

ADDRESSES: Interested persons should submit written comments to Office of Management, Records Management Division, Federal Emergency Management Agency, 500 C Street, SW., Washington, DC 20472, Mail Drop Room 301.

FOR FURTHER INFORMATION CONTACT: Contact Tim Ganley, USFA Fire Program Specialist, United States Fire Administration, FEMA, (301) 447-1358 for additional information. You may contact the Records Management Branch for copies of the proposed collection of information at facsimile number (202) 646-3347 or e-mail address: FEMA-Information-Collections@dhs.gov.

Alisa Turner,
Acting Director, Records Management Division, Office of Management, Federal Emergency Management Agency, Department of Homeland Security.

[FR Doc. E8-28338 Filed 11-26-08; 8:45 am]

BILLING CODE 9110-17-P